DEPARTMENT OF COMMERCE

Foreign-Trade Zones Board

[Order No. 1321]

Designation of New Grantee for Foreign-Trade Zone 19, Omaha, NE; Resolution and Order

Pursuant to its authority under the Foreign-Trade Zones Act of June 18, 1934, as amended (19 U.S.C. 81a-81u), and the Foreign-Trade Zones Board Regulations (15 CFR part 400), the Foreign-Trade Zones Board (the Board) adopts the following Order:

The Foreign-Trade Zones (FTZ) Board (the Board) has considered the application (filed 9/18/2003) submitted by the Dock Board of the City of Omaha, grantee of FTZ 19, Omaha, Nebraska, requesting reissuance of the grant of authority for said zone to the Greater Omaha Chamber of Commerce, a non-profit corporation, which has accepted such reissuance subject to approval by the FTZ Board. Upon review, the Board finds that the requirements of the FTZ Act and the Board's regulations are satisfied, and that the proposal is in the public interest, approves the request and recognizes the Greater Omaha Chamber of Commerce as the new grantee of Foreign-Trade Zone 19.

The approval is subject to the FTZ Act and the FTZ Board's regulations, including section 400.28.

Signed in Washington, DC, this 11th day of March, 2004.
James J. Jochum,
Assistant Secretary of Commerce for Import Administration, Alternate Chairman, Foreign-Trade Zones Board.

[FR Doc. 04-6348 Filed 3-19-04; 8:45 am]

BILLING CODE 3510-DS-P